DEPARTMENT OF COMMERCE

International Trade Administration

Environmental Technologies Trade Advisory Committee Public Meeting

AGENCY: International Trade Administration, DOC.

ACTION: Notice of Federal Advisory Committee meeting.

SUMMARY: This notice sets forth the schedule and proposed agenda of a meeting of the Environmental Technologies Trade Advisory Committee (ETTAC).

DATES: The teleconference meeting is scheduled for Tuesday, May 3, 2016, at 3:00 p.m. Eastern Daylight Time (EDT). Please register by 5:00 p.m. EDT on Friday, April 29, 2016 to listen in on the teleconference meeting.

ADDRESSES: The meeting will be held via teleconference. For logistical reasons, all participants are required to register in advance by the date specified above. Please contact Ms. Maureen Hinman at the contact information below to register and obtain call-in information.

FOR FURTHER INFORMATION CONTACT: Ms. Maureen Hinman, Office of Energy & Environmental Industries (OEEI), International Trade Administration, Room 4053, 1401 Constitution Avenue NW., Washington, DC 20230 (Phone: 202-482-0627; Fax: 202-482-5665; email: maureen.hinman@trade.gov.)

SUPPLEMENTARY INFORMATION: The meeting will take place from 3:00 p.m. to 4:30 p.m. EDT. The general meeting is open to the public and time will be permitted for public comment from 4:00-4:30 p.m. EDT. Those interested in attending must provide notification by Friday, April 29, 2016 at 5:00 p.m. EDT, via the contact information provided above. Written comments concerning ETTAC affairs are welcome any time before or after the meeting. Minutes will be available within 90 days of this meeting.

Topics to be considered: The agenda for this meeting will include review and approval of ETTAC recommendations for the 2014—2016 charter period.

Background: The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently re-chartered until August 2016.

Dated: April 6, 2016.
Edward A. O'Malley,
Office Director, Office of Energy and Environmental Industries.

[FR Doc. 2016-08408 Filed 4-12-16; 8:45 am]

BILLING CODE 3510-DR-P